DEPARTMENT OF TRANSPORTATION

Federal Aviation Administration

14 CFR Part 29

[Docket No. FAA-2009-0413; Amdt. No. 29-55]

RIN 2120-AJ51

Fatigue Tolerance Evaluation of Metallic Structures; OMB Approval of Information Collection

AGENCY: Federal Aviation Administration, DOT.

ACTION: Final rule; OMB approval of information collection.

SUMMARY: This document notifies the public of the Office of Management and Budget's (OMB's) approval of the information collection requirement contained in the FAA's final rule, “Fatigue Tolerance Evaluation of Metallic Structures,” which was published on December 2, 2011.

DATES: The rule published on December 2, 2011, and became effective on January 31, 2012. However, at the time of publication, the new information collection requirements imposed by 14 CFR 29.571, lacked OMB approval. This document announces receipt of OMB's June 28, 2012 approval.

FOR FURTHER INFORMATION CONTACT: For technical questions concerning this action, contact Sharon Y. Miles, Regulations and Policy Group, Rotorcraft Directorate, ASW-111, Federal Aviation Administration, 2601 Meacham Blvd., Fort Worth, Texas 76137-0111; telephone number (817) 222-5122; facsimile (817) 222-5961; email sharon.y.miles@faa.gov. For legal questions concerning this action, contact Theresa D. Dunn, Directorate Counsel, ASW-7G8, Federal Aviation Administration, 2601 Meacham Blvd., Fort Worth, Texas 76137-0007; telephone (817) 222-5099; facsimile (817) 222-5945; email: theresa.dunn@faa.gov.

SUPPLEMENTARY INFORMATION: The final rule, “Fatigue Tolerance Evaluation of Metallic Structures,” published in the Federal Register (76 FR 75435) on December 2, 2011. In that rule, the FAA addresses advances in structural fatigue substantiation technology for metallic structures that provides an increased level of safety by avoiding or reducing the likelihood of the catastrophic fatigue failure of a metallic structure. These increased safety requirements help ensure that should serious accidental damage occur during manufacturing or within the operational life of the rotorcraft, the remaining structure could withstand, without failure, any fatigue loads that are likely to occur, until the damage is detected or the part is replaced.

In a correction document (77 FR 4890), published February 1, 2012, the FAA revised the DATES section of the final rule, noting that affected parties were not required to comply with the new information collection requirements in § 29.571 until OMB approved the FAA's request to collect the information. Section 29.571 includes new provisions requiring an applicant, when trying to obtain type certification of a rotorcraft, to submit substantiating data to show that the rotorcraft complies with specific certification requirements. OMB's approval for the information collection requirement was pending at the time of § 29.571 publication.

Under the Paperwork Reduction Act, the FAA submitted the new information collection requirements for OMB review. OMB approved the collection on June 28, 2012, and assigned the information collection OMB Control Number 2120-0752, which expires on June 30, 2015.

This publication informs affected parties of the approval and announces that as of June 28, 2012, affected parties are required to comply with the new information collection requirements in § 29.571.

Issued in Washington, DC, on August 13, 2012.
Lirio Liu,
Acting Director, Office of Rulemaking.

[FR Doc. 2012-20684 Filed 8-21-12; 8:45 am]

BILLING CODE 4910-13-P